DEPARTMENT OF TRANSPORTATION

Coast Guard

33 CFR Part 117

[CGD01-01-062]

RIN 2115-AE47

Drawbridge Operation Regulations: Hackensack River, NJ

AGENCY: Coast Guard, DOT.

ACTION: Temporary final rule.

SUMMARY: The Coast Guard is establishing a temporary final rule governing the operation of the Lincoln Highway Bridge, at mile 1.8, across the Hackensack River at Jersey City, New Jersey. This temporary final rule requires vessels to provide a one-hour daytime advance notice and a four-hour nighttime advance notice for bridge openings from May 8, 2001 through July 31, 2001. This action is necessary to facilitate completion of maintenance at the bridge.

DATES: This temporary final rule is effective from May 8, 2001 through July 31, 2001.

ADDRESSES: The public docket and all documents referred to in this notice are available for inspection or copying at the First Coast Guard District, Bridge Branch Office, 408 Atlantic Avenue, Boston, Massachusetts, 02110, 7 a.m. to 3 p.m., Monday through Friday, except Federal holidays.

FOR FURTHER INFORMATION CONTACT: Ms. Judy Yee, Project Officer, First Coast Guard District, (212) 668-7165.

SUPPLEMENTARY INFORMATION:

Regulatory Information

Pursuant to 5 U.S.C. 553, a notice of proposed rulemaking (NPRM) was not published for this regulation. Good cause exists for not publishing a NPRM and for making this regulation effective in less than 30 days after publication in the Federal Register. This temporary rule will extend the time period the bridge will operate on an advance notice basis in order to complete maintenance repairs that were scheduled to be completed by May 7, 2001. The Coast Guard published a temporary rule on March 13, 2001, (66 FR 14487) effective from March 13, 2001 through May 7, 2001, to facilitate necessary maintenance at the bridge. The scheduled repairs could not be performed as planned due to inclement weather conditions; therefore, additional time will be required to complete this work.

The Coast Guard did not receive notification from the bridge owner, regarding the need to extend the maintenance period in time to provide 30 days notice prior to this rule's effective date. This temporary rule will not close the bridge to marine traffic at any time. It will simply require mariners to provide advance notification for bridge openings.

The Coast Guard discussed the advance notification periods with all known waterway users likely to be impacted by this change to the drawbridge operation regulations and no objections were received.

Any delay encountered in this regulation's effective date would be unnecessary and contrary to the public interest since immediate action is needed in order to complete this necessary maintenance at the bridge.

Background

The Lincoln Highway Bridge, at mile 1.8, across the Hackensack River has a vertical clearance of 35 feet at mean high water and 40 feet at mean low water. The existing operating regulations require the bridge to open on signal at all times.

The owner of the bridge, the New Jersey Department of Transportation (NJDOT), initially requested a temporary change to the operating regulations requiring advance notice for bridge openings from February 12, 2001 through May 7, 2001. The bridge owner was initially granted the above temporary final rule (66 FR 14487) effective from March 13, 2001 through May 7, 2001, in order to perform necessary maintenance at the bridge. Due to inclement weather the scheduled repairs will not be completed within the time period covered by the first temporary rule. The bridge owner has requested a second temporary regulation to be effective from May 8, 2001 through July 31, 2001; whereby, the bridge will operate as follows: from May 8, 2001 through July 31, 2001 the Lincoln Highway Bridge shall open on signal; except that, Monday through Thursday, 9 a.m. to 4 p.m., at least a one-hour advance notice for bridge openings is required and from 9 p.m. on Friday through 5 a.m. on Monday, at least a four-hour advance notice for bridge openings is required. Vessels that can pass under the bridges without openings may do so at all times. This temporary rule is necessary in order to complete the remaining maintenance repairs at the bridge.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040; February 26, 1979). This conclusion is based on the fact that the bridge will continue to open at all times provided the advance notice is given.

Small Entities

Under the Regulatory Flexibility Act (5 U.S.C. 601-612) we considered whether this rule would have a significant economic impact on a substantial number of small entities. “Small entities” comprises small businesses, not-for profit organizations that are independently owned and operated and are not dominant in their fields, and governmental jurisdictions with populations less than 50,000.

The Coast Guard certifies under 5 U.S.C. 605(b) that this rule will not have a significant economic impact on a substantial number of small entities. This conclusion is based on the fact that the bridge will continue to open on signal at all times provided the advance notice is given.

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that under figure 2-1, paragraph (32)(e) of Commandant Instruction M16475.1C, this rule is categorically excluded from further environmental documentation because promulgation of changes to drawbridge regulations have been found to not have a significant effect on the environment. A written “Categorical Exclusion Determination” is not required for this rule.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. From May 8, 2001 through July 31, 2001, § 117.723 is temporarily amended by adding an new paragraph (i) to read as follows:

§ 117.723 Hackensack River

* * * * *

(i) The Lincoln Highway Bridge, mile 1.8, shall open on signal; except that, Monday through Thursday, 9 a.m. to 4 p.m., at least a one-hour advance notice for bridge openings is required and from 9 p.m. on Friday through 5 a.m. on Monday, at least a four-hour advance notice for bridge openings is required.

Dated: April 30, 2001.
G.N. Naccara,
Rear Admiral, U.S. Coast Guard, Commander, First Coast Guard District.

[FR Doc. 01-11713 Filed 5-8-01; 8:45 am]

BILLING CODE 4910-15-P